DEPARTMENT OF TRANSPORTATION

Federal Motor Carrier Safety Administration

[Dockets No. FMCSA-2017-0243, FMCSA-2017-0296, FMCSA-2017-0337, FMCSA-2017-0340, FMCSA-2017-0342, FMCSA-2017-0356, FMCSA-2017-0361, FMCSA-2017-0373, FMCSA-2018-0003, FMCSA-2017-0336]

Hours of Service (HOS) of Drivers; Applications for Exemption From the Electronic Logging Device Rule

AGENCY: Federal Motor Carrier Safety Administration (FMCSA), DOT.

ACTION: Notice of final disposition: Denial of applications for exemption; correction.

SUMMARY: The Federal Motor Carrier Safety Administration published its decision in the Federal Register of December 7, 2018, to deny 10 applicants an exemption from the hours-of-service electronic logging device rule. Due to an error, the name of the first applicant listed in that publication was twice misstated. This notice makes it clear that the name of the first applicant is Power & Communication Contractors Association.

DATES: Applicable on December 7, 2018.

FOR FURTHER INFORMATION CONTACT: For information concerning this notice, contact Ms. Pearlie Robinson, FMCSA Driver and Carrier Operations Division; Office of Carrier, Driver and Vehicle Safety Standards; Telephone: (202) 366-4225. Email: MCPSD@dot.gov. If you have questions on viewing or submitting material to the docket, contact Docket Services, telephone (202) 366-9826.

SUPPLEMENTARY INFORMATION:

Correction

In the Federal Register of December 7, 2018, correct page 63194 as follows: In the first column, correct the name of the first applicant listed in the Summary second sentence to read “Power & Communication Contractors Association.” In the third column, correct the subheading to read, “Power & Communication Contractors Association.”

Issued on: March 20, 2019.
Larry W. Minor,
Associate Administrator for Policy.

[FR Doc. 2019-05951 Filed 3-27-19; 8:45 am]

BILLING CODE 4910-EX-P